DEPARTMENT OF DEFENSE

Office of the Secretary

[Docket ID DOD-2010-OS-0182]

Privacy Act of 1974; System of Records

AGENCY: Office of the Secretary of Defense, DoD.

ACTION: Notice to add a system of records.

SUMMARY: The Office of the Secretary of Defense proposes to add a system of records to its inventory of record systems subject to the Privacy Act of 1974 (5 U.S.C. 552a), as amended.

DATES: This proposed action would be effective without further notice on January 26, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Chief, OSD/JS Privacy Office, Freedom of Information Directorate, Washington Headquarters Services, 1155 Defense Pentagon, Washington DC 20301-1155, or Ms. Cindy Allard at (703) 588-6830.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on December 17, 2010 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 21, 2010.
Morgan F. Park,
Alternate OSD Federal Register Liaison Officer, Department of Defense.

DMDC 14 DOD

System Name:

Health Record Tracking System (HRTS).

System Location:

Defense Manpower Data Center, DoD Center Monterey Bay, 400 Gigling Road, Seaside CA 93955-6771.

Categories of Individuals covered by the system:

Individual Ready Reserve (IRR) and Inactive National Guard (ING) members.

Categories of Records in the System:

Name, Social Security Number (SSN), date of birth, tracking information (i.e. status of request and shipment tracking number).

Authority for maintenance of the system:

10 U.S.C. 138, Assistant Secretaries of Defense; DoD Directive 5125.01, Assistant Secretary of Defense for Reserve Affairs (ASD(RA)); DoD Instruction 1235.14, Administration and Management of the Individual Ready Reserve (IRR) and the Inactive National Guard (ING); E.O. 9397 (SSN), as amended.

Purpose:

The Health Record Tracking System (HRTS) allows the Military Services to request an Individual Ready Reserve (IRR) member's health treatment record (HTR) from the Department of Veterans Affairs (VA) upon mobilization of the individual. The VA is required to maintain the HTR on members of the IRR after they have separated from the military. The Services may request the HTR from the VA when an IRR member is reactivated to active or reserve service. The HTR must be returned to the requesting Military Service within 72 hours of notification. HRTS is the mechanism the Military Services use to request the HTR and identify when VA has shipped the record.

Routine Uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the Department of Veteran's Affairs (VA) for the purpose of completing HTR requests for the Service components.

Policies and Practices for storing, retrieving, accessing, retaining and disposing of records in the System:

Storage:

Electronic storage media.

Retrievability:

Records are retrieved by Social Security Number (SSN).

Safeguards:

Electronic records are maintained in a controlled area accessible only to authorized personnel. Entry to these areas is restricted by the use of locks, guards, and administrative procedures. Access to personal information is limited to those who require the records in the performance of their official duties. Access to personal information is further restricted by the use of passwords which are changed periodically.

Retention and Disposal:

Records are deleted when two years old, or two years after the date of the latest entry, whichever is applicable.

System Manager(s) and address:

Deputy Director, Defense Manpower Data Center, DoD Center Monterey Bay, 400 Gigling Road, Seaside, CA 93955-6771.

Notification Procedures:

Individuals seeking to determine whether information about themselves is contained in this system should address written inquiries to the Deputy Director, Defense Manpower Data Center, 400 Gigling Rd., Seaside, CA 93955-6771.

Individuals should provide his/her full name and Social Security Number (SSN).

Record Access Procedure:

Individuals seeking to access the information about themselves contained in this system should address written inquiries to the Office of the Secretary of Defense (OSD)/Joint Staff Freedom of Information Requester Service Center, 1155 Defense Pentagon, Washington, DC 20301-1155.

Written requests should include the full name and Social Security Number (SSN) of the requester, along with the name and number of this system of records notice and be signed.

Contesting Record Procedures:

The OSD rules for accessing records, for contesting contents and appealing initial agency determinations are published in the OSD Administrative Instruction 81; 32 CFR part 311; or may be obtained from the system manager.

Record Source Categories:

Service Components.

Exemptions claimed for the system:

None.

[FR Doc. 2010-32396 Filed 12-23-10; 8:45 am]

BILLING CODE 5001-06-P